DEPARTMENT OF THE INTERIOR

Fish and Wildlife Service

[FWS-R5-NCTC-2016-N018; FF09X35000-167-FXGO16610900600]

Information Collection Request Sent to the Office of Management and Budget (OMB) for Approval; UCAN Survey—National Initiative To Understand and Connect Americans and Nature

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before March 9, 2016.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-UCAN Survey” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018—New.

Title: UCAN Survey—National Initiative to Understand and Connect Americans and Nature.

Service Form Number: None.

Type of Request: Request for a new OMB control number.

Description of Respondents: Individuals.

Estimated Number of Respondents: 8,950.

Respondent's Obligation: Voluntary.

Frequency of Collection: One time.

Estimated Number of Responses: 8,950.

Completion Time per Response: 20 minutes.

Estimated Total Annual Burden Hours: 2,983.

Estimated Annual Nonhour Burden Cost: None.

Abstract: Nature and the outdoors have always been an important part of the fabric of American life. However, there are major questions about the present and future role of nature and the outdoors in our increasingly diverse, technologically oriented, and rapidly changing society. For our programs to remain relevant to American life today and tomorrow, we must be aware of public sentiment toward the part nature plays in the quality of our lifestyles.

It is for these reasons that we plan to use a quantitative survey to collect information on the attitudes that the public maintains towards the natural environment; the effects of contact with nature on participants' health and quality of life; the extent of contact with nature and obstacles to greater contact with nature; general knowledge of nature and wildlife; concerns toward selected environmental issues; and socio-demographic variables. Results will help improve the design and delivery of new or existing programs aimed at engaging the public in nature-related activities (e.g., outreach and educational programming at national wildlife refuges and national fish hatcheries).

Comments Received and Our Responses

On May 19, 2015, we published in the Federal Register (80 FR 28638) a notice of our intent to request that OMB approve this information collection. In that notice, we solicited comments for 60 days, ending on July 20, 2015. We received one comment. The commenter objected to the use of taxpayer dollars for the survey, but did not address the information collection requirements. We did not make any changes to the survey based on this comment.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: February 2, 2016.
Tina A. Campbell,
Chief, Division of Policy, Performance, and Management Programs, U.S. Fish and Wildlife Service.

[FR Doc. 2016-02352 Filed 2-5-16; 8:45 am]

BILLING CODE 4333-15-P